DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis.

Title: Quarterly Survey of Insurance Transactions by U.S. Insurance Companies with Foreign Persons.

OMB Control Number: 0608-0066.

Form Number(s): BE-45.

Type of Request: Extension of a currently approved collection.

Burden Hours: 9,600.

Number of Respondents: 1,200.

Average Hours per Response: 8.

Needs and Uses: The U.S. Government requires data from the BE-45, Quarterly Survey of Insurance Transactions by U.S. Insurance Companies with Foreign Persons, to obtain accurate and up-to-date information on transactions in reinsurance and other insurance transactions between U.S. insurance companies and foreign persons. The data collected will be used in monitoring U.S. exports and imports of insurance services; analyzing their impact on the U.S. and foreign economies; supporting U.S. international commercial policy on such services; compiling the international transactions; national income and product, and input-output accounts of the United States; assessing U.S. competitiveness in international trade in services; and improving the ability of U.S. businesses to identify and evaluate market opportunities.

Affected Public: Business or other for-profit organizations.

Frequency: Quarterly.

Respondents Obligation: Mandatory.

Legal Authority: Title 22 U.S.C., sections 3101-3108, as amended.

OMB Desk Officer: Paul Bugg, (202) 395-3093.

Copies of the above information collection proposal may be obtained by writing Departmental Paperwork Clearance Officer, Diana Hynek, Department of Commerce, Room 7845, 14th and Constitution Avenue, NW., Washington, DC 20230 or via the Internet at dHynek@doc.gov.

Send comments on the proposed information collection within 30 days of publication of this notice to Paul Bugg, OMB Desk Officer, via e-mail at pbugg@omb.eop.gov or by fax at (202) 395-7245.

Dated: August 18, 2009.
Gwellnar Banks,
Management Analyst, Office of Chief Information Officer.

[FR Doc. E9-20122 Filed 8-20-09; 8:45 am]

BILLING CODE 3510-06-P